FEDERAL MARITIME COMMISSION

Ocean Transportation Intermediary License; Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

Latin Freight International, Inc., 1348 N.W. 78th Avenue, Miami, FL 33126. Officers: Eduardo Blanco, President (Qualifying Individual), Rebeca Blanco, Vice President.

Horizon International Shipping, Inc., 9165 N.W. 101 Street, Medley, FL 33178. Officer: Maria V. Daenecke Director (Qualifying Individual).

Xing Ya Shipping LLC, 23929 W. Valencia Blvd., Suite #204, Valencia, CA 91354. Officers: Roger Yang, Operations Manager (Qualifying Individual), Zang Yi Bai, General Manager.

AGI Logistics Corporation, 168-18 South Conduit Avenue, Jamaica, NY 11434. Officer: James Minutello, President (Qualifying Individual).

FRS Freight Services, Inc., 69-05 Roosevelt Avenue, Roosevelt Avenue, Woodside, NY 11377. Officers: Alejandro P. Arce, President Qualifying Individual), Luis Gregorio P. Arce, Secretary.

United World Express, Inc., 1951 McGarry Street, Los Angeles, CA 90058. Officers: Stella Pyon, Secretary (Qualifying Individual), Byung Yul Chang, C.E.O.

Aruba Caribbean Cargo, Inc., 2746 NW 112 Avenue, Miami, FL 33172. Officer: Lydia Arends, President (Qualifying Individual).

Estes Express Lines, 3901 W. Broad Street, Richmond, VA 23230. Officer: Paul Dugent, Vice President (Qualifying Individual).

Relogistics International, Inc., 16 Bonnievale Drive, Bedford, MA 01730. Officer: Mary A. Sortal, President (Qualifying Individual).

Non-Vessel Operating Common Carrier and Ocean Freight Forwarder Transportation Intermediary Applicants

American Country Gourmet Collection, Inc., 2334 Oak Drive, Steilacoom, WA 98388. Officer: Jesse R. Womack, President (Qualifying Individual).

FedEx Supply Chain Services, Inc., d/b/a FedEx Logistics, 5455 Darrow Road, Hudson, OH 44236. Officers: Rodney M. Miller, Vice President (Qualifying Individual), Gary D. Gilbert, President.

Foreign Cargo Management Corp. d/b/a FCM Transport, 80-104 Orville Drive, Bohemia, NY 11718. Officers: Paul Thompson, Vice President (Qualifying Individual), Thomas Anderson, President.

EKKA Forwarding Inc., 530 Main Street, Suite #1, Fort Lee, NJ 07024. Officers: Harry Chung (Kihwa Chung), Managing Director (Qualifying Individual), Jae Y. Chang, President.

Ocean Freight Forwarders—Ocean Transportation Intermediary Applicants

DCM Logistics, Inc., 540 Rams Way, Tucker, GA 30084. Officer: Demetri C. Miltiades, President.

Treatmont Chartering (USA), Inc., Two Lakeway, 3850 N. Causeway Blvd., Suite 827, Metairie, LA 70002. Officers: Leo Mercado, Vice President (Qualifying Individual), Michael H. Belmer, President.

Dated: May 26, 2000.
Theodore A. Zook,
Assistant Secretary.

[FR Doc. 00-13737 Filed 5-31-00; 8:45 am]

BILLING CODE 6730-01-P